DEPARTMENT OF COMMERCE

National Oceanic and Atmospheric Administration

50 CFR Part 648

[Docket No. 010313064-1064-01; I.D. 022001C]

RIN 0648-XA64

Fisheries of the Northeastern United States; Northeast Multispecies Fishery; Notification of Annual Adjustment to the Northeast Multispecies Fishery Management Plan

AGENCY: National Marine Fisheries Service (NMFS), National Oceanic and Atmospheric Administration (NOAA), Commerce.

ACTION: Notification of 2001 target total allowable catch (TAC) levels.

SUMMARY: NMFS establishes target TAC levels for the Northeast multispecies fisheries and announces that the multispecies management measures currently in effect will remain unchanged for the fishing year beginning May 1, 2001.

DATES: Effective May 1, 2001.

ADDRESSES: Copies of the Multispecies Monitoring Committee Report for 2000 may be obtained from the New England Fishery Management Council, 50 Water Street, Mill 2, Newburyport, MA 01950; telephone (978) 465-0492.

FOR FURTHER INFORMATION CONTACT: David M. Gouveia, Fishery Policy Analyst, (978) 281-9280, fax (978) 281-9135, e-mail david.gouveia@noaa.gov.

SUPPLEMENTARY INFORMATION: The Northeast Multispecies Fishery Management Plan (FMP) specifies a procedure for setting annual target TAC levels for Georges Bank (GB) cod, GB haddock, GB yellowtail flounder, Gulf of Maine (GOM) cod, Southern New England (SNE) yellowtail flounder and an aggregate TAC for the remaining regulated multispecies. The New England Fishery Management Council’s (Council) Multispecies Monitoring Committee (MMC) reviews the best available scientific information, and recommends annual target TAC levels for several key groundfish stocks and management options to achieve the FMP objectives. Adjustment of annual target TAC levels is often necessary to attain the fishing mortality rates (F) specified by Amendment 7 to the FMP to allow cod, haddock, and yellowtail flounder stocks to rebuild and maintain current potential yield for the other regulated multispecies.

The MMC developed recommendations for target TACs for the 2001 fishing year that are consistent with the rebuilding targets specified in Amendment 7 to the FMP (61 FR 27710, May 31, 1996). While the Council revised the overfishing definitions for these stocks in Amendment 9 to the FMP (64 FR 55821, October 15, 1999), it has not yet developed any new rebuilding program associated with those definitions. The Council is developing Amendment 13 to specify new rebuilding programs, but until that time, the Amendment 7 rebuilding targets and F goals are the basis for establishing annual target TACs and any changes to management measures. Calculation of the annual TAC levels is based on the biological reference points of Fmax for GOM cod and F0.1 for the remaining stocks of cod, haddock, and yellowtail flounder. However, as was the case for fishing year 2000, the Council directed the MMC to also estimate the TAC associated with F0.1 for GOM cod for reference purposes.

The MMC utilized the assessment results from the Stock Assessment Workshop’s Northern Demersal and Southern Demersal Working Groups’ 2000 annual report to estimate the target TAC levels for various fish stocks for fishing year 2001. In its report delivered at the November 14-16, 2000, Council meeting, the MMC found that the stock status of GB cod, GB haddock, GB yellowtail flounder, and SNE yellowtail flounder has continued to improve. In 1999, F for these stocks was below the level defined as overfishing and near or below the Amendment 7 F targets. GB haddock and GB yellowtail flounder F values are below the Amendment 7 F targets, while the GB cod and SNE yellowtail F value are slightly above their Amendment 7 F targets. The differences between the projected GB cod and SNE yellowtail flounder F values for 1999 and the F targets, respectively, are not significant. Spawning stock biomass (SSB) has increased for these stocks but, with the exception of GB yellowtail, remains below Amendment 7 SSB thresholds. In general, recruitment through 1999 has been poor for GB cod and SNE yellowtail; near average for GB haddock; and above average for GB yellowtail.

The status of GOM cod is not clear because of the difficulty characterizing discards in the fishery in 1999 and 2000. F declined to 0.78 in 1998, but was still well above the overfishing definition (F20%=0.41) and Amendment 7 F target (Fmax=0.27). Depending on the magnitude of discards, F in 1999 continued to decline and may have ranged from 0.29 (assuming no discards) to 0.76 (assuming 2,500 metric tons (mt) discards). The MMC report noted that better estimates of F in 1999 and 2000 for GOM cod will be available after the 33rd Stock Assessment Review Committee (SARC 33) in June 2001. The SSB for GOM cod hit a record low in 1998, but increased slightly in 1999 under all discard assumptions. Recruitment for GOM cod has also been poor in 1999 despite early indications that suggest that the 1998 year class is above average.

Based on projected 2001 stock sizes and Amendment 7's F targets, the MMC recommended an increase to the target TAC levels for the 2001 fishing year for GB haddock, GB cod, and GB yellowtail flounder, and a slight decrease for SNE yellowtail flounder. However, because of the uncertainty about 1999 and 2000 discard levels, the MMC could not recommend any changes for target TACs for GOM cod in 2001. The Council voted to use the same target TACs in 2001 as in fishing year 2000 (for Fmax and F0.1) to prevent exploitation from increasing. These target TACs will be used until the updated assessment is available following SARC 33. Maintaining the 2000 GOM cod target TAC also means that the conditional closure of Cashes Ledge in November 2001, and a portion of Massachusetts Bay in January 2002, will be required if preliminary landings data through July 21, 2001, indicate that more than 1.67 million lb (759 mt) of GOM cod have been landed. An aggregate target TAC for the remaining regulated multispecies was not provided in the 2000 MMC annual report.

At its November 2000 meeting, the Council voted to approve the MMC recommendations to increase the target TAC levels for fishing year 2001 for GB cod, GB haddock, GB yellowtail flounder, and SNE yellowtail flounder, and voted to maintain the Fmax and F0.1 target TAC levels from fishing year 2000 as target TAC levels for GOM cod for fishing year 2001. The Regional Administrator, Northeast Region, NMFS, concurs with the Council’s recommendations. The target TAC levels for the 2001 fishing year are as follows:

Species/area | 2001 Target TAC (metric tons) | 2000 Target TAC (metric tons)
Georges Bank cod | 4,900 | 4,145
Georges Bank haddock | 11,680 | 6,252
Georges Bank yellowtail flounder | 6,805 | 4,618
Southern New England yellowtail flounder | 949 | 951
Gulf of Maine cod (Fmax) | 1,918 | 1,918
Gulf of Maine cod (F0.1) | 1,118 | 1,118

In addition to setting the target TAC levels, the MMC report generally provides the Council with specific management options and recommendations to keep the target TAC levels from being exceeded. As described here, actual F values for GB cod, GB haddock, GB yellowtail, and SNE yellowtail stocks were near or below the Amendment 7 fishing mortality targets in 1999, and below the level defined as overfishing. The status of GOM cod is less clear because the MMC could not determine the fishing mortality rates in 1999 and 2000.

Because the MMC was directed to develop recommendations for the 2001 fishing year that are consistent with the rebuilding targets specified in Amendment 7, the MMC concluded that current measures should be adequate for the 2001 fishing year to ensure that recommended target TACs for 2001 are not exceeded. The MMC did not recommend any changes to the current measures specific to GOM cod because of the uncertainty of the magnitude of reduction needed to achieve the Amendment 7 objectives (Fmax). Accordingly, the Council recommended maintaining the 2000 management measures for fishing year 2001. However, as discussed here, the MMC noted that further information, including GOM cod discard levels, is expected to be available after the SARC 33 review in June 2001. Upon completion of SARC 33, further adjustments in management measures may be necessary to meet Amendment 7 objectives for GOM cod.

Classification

This action is required by 50 CFR part 648 and is exempt from review under Executive Order 12866.

Authority: 16 U.S.C. 1801 et seq.

Dated: March 9, 2001.
Bruce Morehead,
Acting Director, Office of Sustainable Fisheries, National Marine Fisheries Service.

[FR Doc. 01-7021 Filed 3-20-01; 8:45 am]

BILLING CODE 3510-22-S